DEPARTMENT OF THE INTERIOR

Fish and Wildlife Service

[FWS-R1-R-2012-N169; 1265-0000-10137-S3]

Malheur National Wildlife Refuge, Harney County, OR; Final Comprehensive Conservation Plan and Final Environmental Impact Statement

AGENCY: Fish and Wildlife Service, Interior.

ACTION: Notice of availability.

SUMMARY: We, the U.S. Fish and Wildlife Service (Service), announce the availability of the final comprehensive conservation plan and environmental impact statement (CCP/EIS) for the Malheur National Wildlife Refuge (Refuge). In the final CCP/EIS, we describe alternatives, including our preferred alternative, for managing the Refuge for the next 15 years.

DATES: We will sign a record of decision no sooner than 30 days after publication of this notice.

ADDRESSES: You may download a copy of the final CCP/EIS, or contact us to request a printed or CD-ROM copy of the document, as follows.

Agency Web Site: Download the final CCP/EIS at www.fws.gov/pacific/planning.

Email: FW1PlanningComments@fws.gov. Include “Malheur NWR CCP/EIS” in the subject line of your request for a printed or CD-ROM copy of the final CCP/EIS.

Fax: Attn: Tim Bodeen, Project Leader, (541) 493-2405.

Mail: Tim Bodeen, Project Leader, Malheur National Wildlife Refuge, 36391 Sodhouse Lane, Princeton, OR 97221.

In-Person Viewing or Pickup: Schedule an appointment with Refuge staff to view or obtain a final CCP/EIS during regular business hours by calling (541) 493-2612.

Local Libraries: The final CCP/EIS is available for review at the libraries listed under SUPPLEMENTARY INFORMATION.

FOR FURTHER INFORMATION CONTACT: Tim Bodeen, (541) 493-2612.

SUPPLEMENTARY INFORMATION:

Introduction

With this notice, we announce the availability of the final CCP/EIS for the Refuge. We started this process through a notice in the Federal Register (74 FR 31046; June 29, 2009). We released the Draft CCP/EIS to the public, and requested comments on it in a notice of availability in the Federal Register (77 FR 13141, March 5, 2012).

The Refuge was established by President Theodore Roosevelt in 1908 as the Lake Malheur Bird Reservation, to prevent plume hunters from decimating colonial nesting bird populations. The Refuge protected unclaimed lands encompassed by Malheur, Mud, and Harney Lakes as a preserve and breeding ground for native birds. The Refuge was expanded to include the Blitzen Valley in 1935, and the Double-O Unit in 1941. The Refuge's establishing purposes include: “A refuge and breeding ground for migratory birds and other wild life” and “for use as an inviolate sanctuary, or for any other management purpose, for migratory birds.”

The Refuge consists of more than 187,000 acres of open water (marsh, river, and stream), wetlands, springs, riparian areas, irrigated meadows, grain fields, and shrub-steppe uplands. The Refuge's abundance of water in an otherwise arid landscape attracts a significant portion of the Pacific Flyway's migrating bird population during the spring. The large concentration of migrating birds is recognized in flyway and regional bird conservation plans, and BirdLife International designated the Refuge an Important Bird Area. Populations of breeding waterfowl and waterbirds on Malheur Lake and other Refuge wetlands have, however, dropped substantially from historic levels. This decline is widely attributed to high populations of nonnative common carp living in the lake and in adjacent water bodies. The bottom-feeding carp impacts bird populations by competing for insect and plant food sources, and uprooting vegetation and disturbing silt in ponds and lakebeds. The resulting silt plumes degrade aquatic habitat and interfere with plant and insect production.

We announce the availability of the Refuge's final CCP/EIS in accordance with National Environmental Policy Act (NEPA) 40 CFR 1506.6(b) requirements. We included a thorough analysis of impacts on the human environment in the final CCP/EIS.

The CCP will guide us in managing and administering the Refuge for the next 15 years. Alternative 2, as we described in the final CCP/EIS, is our preferred alternative, and the foundation of the CCP.

Background

The CCP Process

The National Wildlife Refuge System Administration Act of 1966, 16 U.S.C. 668dd-668ee (Refuge Administration Act), as amended by the National Wildlife Refuge System Improvement Act of 1997, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction for conserving wildlife and their habitats, CCPs identify wildlife-dependent recreational opportunities available to the public, including opportunities for hunting, fishing, wildlife observation and photography, and environmental education and interpretation. We will review and update the CCP at least every 15 years in accordance with the Refuge Administration Act.

CCP Alternatives, Including the Preferred Alternative

We evaluated three alternatives for managing the Refuge for the next 15 years in the final CCP/EIS. Based on our analysis, we identified Alternative 2 as our preferred alternative; it was modified in the final CCP/EIS to address the comments we received on the Draft CCP/EIS. Summaries of our alternatives follow.

Alternative 1 (No Action)

Under Alternative 1, the Refuge would continue current practices. Malheur, Harney, and Mud Lakes would remain largely unmanaged, flooding and retreating according to annual weather fluctuations, with nonnative carp populations continuing to degrade these habitats. Other lake and wetland habitats in the Blitzen Valley and Double-O Units would be managed using rotational flooding and dewatering, to enhance productivity for waterfowl and to control carp. The Blitzen River's six dams, fish screens, and ladders would remain in place. Existing river conditions would remain. Native fish passage structures, maintenance of existing carp barriers, and rehabilitation of riparian vegetation would continue. Additional riverine enhancement would consist of small-scale in-stream improvements, when resources are available. We would continue to focus on information gathering for carp control.

Current habitat management in meadows, marshes, and uplands would continue. We would continue to address the needs of various waterbirds, shorebirds, and waterfowl by providing meadow and marsh habitat conditions necessary for nesting, pairing, and migration. Flood irrigation on meadow habitats with diversions from the Blitzen River would continue March 1 through July 25. Plant litter, which becomes detrimental to some wildlife species over time, would continue to be reduced using prescribed burning, haying (on or after August 10), and rakebunch grazing (on or after September 1). Approximately 40 percent of Refuge meadows would continue to be hayed or grazed annually. Emergent vegetation encroachment into wet meadows would continue, because extended flood irrigation creates favorable conditions for cattails.

Public uses, including hunting, fishing, wildlife observation and photography, and environmental education and interpretation, would continue using the current facilities. No new public use facilities would be developed. Areas not on the main roads closed to public access would remain closed to provide sanctuary for wildlife.

Cultural resources, specifically archaeological resources, would continue to be considered during Refuge project planning. Historic resources would continue to be stabilized and restored as funding becomes available. Paleontological resources would continue to be protected. Interpretation of archaeological and historic resources would remain the same under Alternative 1.

Alternative 2 (Preferred Alternative)

Under Alternative 2, our preferred alternative, our principal focus for habitat management would be to improve the aquatic health of lakes and wetlands, primarily by controlling nonnative common carp. As turbidity decreases and submergent vegetation and associated invertebrate species become more abundant, the productivity of Malheur Lake, Boca Lake, Warbler Pond, and other water bodies within the Refuge would increase for a variety of waterbirds, waterfowl, and shorebirds.

Based on site-specific science, a variety of assessment and control tools may be used with the aid of partners to reduce carp populations. Control strategies would include the application of piscicide, chemo-attractants, and chemo-repellants; barrier placements; commercial harvest; recreational angling; water manipulation; and other control methods. The need for continued amendments to and construction of strategically placed in-stream structures, such as traps, screens, and fish wheels that allow native fish passage and impede carp movement, would also be considered. We would initiate necessary assessments and actions to develop a riverine strategy as resources become available. If aquatic health and carp objectives are met and sustained, more staff time would be available for river related issues.

Wetlands and terrestrial habitats would be managed for the life history needs of focal species, with a strong emphasis on flexibility. Tools would include, but not be limited to, late summer haying and autumn/winter rakebunch grazing to meet the foraging needs of early arriving wildlife species. During periods of active plant growth, management tools would include highly prescriptive grazing, mowing, farming, and extended dewatering, to reclaim acres overrun with invasive common cattail and reed canarygrass plants, or to rehabilitate plant communities.

We would upgrade or develop overlooks, elevated viewing platforms, and photography blinds. We would maintain and replant cottonwood trees and other trees and shrubs at six historic sites, to provide rare and incidental passerine habitat and high-quality wildlife viewing experiences for birders. Trails would be built or upgraded to provide access for visitors with mobility impairments, in compliance with the Americans with Disabilities Act (ADA). Docent-led Refuge tours would occur approximately monthly at different locations, including guided kayak and canoe tours on Malheur Lake.

We would emphasize modern media for interpretation. The George Benson Memorial Museum would be enhanced, and additional outdoor interpretive panels would be placed. Special Refuge events and presentations would be expanded. Environmental education (EE) would be provided, and we would develop an outdoor EE shelter and learning area at Refuge Headquarters.

Increased vehicle access would be provided at three sites year round—Boat Landing Road near Refuge Headquarters, Krumbo Lane to Krumbo Reservoir, and the southern portion of East Canal Road north to the confluence of Bridge Creek. We would provide up to eight outdoor welcome and orientation panels to guide visitors. Visitor amenities, such as picnic tables, shelters, and vault toilets, would be upgraded and provided in new locations. We would develop an expanded visitor contact station and gift shop at Refuge Headquarters, and a seasonal contact station at the P Ranch Unit, to facilitate contact between visitors, Refuge staff, and volunteers.

The upland game hunt would open approximately three weeks earlier than it currently opens. The northern part of Malheur Lake and the Buena Vista Unit would remain open under existing regulations. Proposed waterfowl hunt areas would more than double the existing hunt area, by opening a new access point, a portion of the south-central area of Malheur Lake, and the Buena Vista Unit to waterfowl hunting. The hunting season in the new areas would begin on the fourth Saturday in October, and end on the last day of the State's waterfowl season. The existing youth hunt would be promoted, and access improvements would be made to Saddle Butte. In partnership with potential users, the Refuge would also support adding ADA-compatible facilities for waterfowl hunters with mobility impairments in the Buena Vista Unit.

We would pursue a land exchange with BLM, transferring lands within the Boundary Unit west of State Highway 205 and other small parcels to BLM, in exchange for appropriate BLM lands. The land exchange would not affect hunting opportunities.

Fishing opportunities would continue at Krumbo Reservoir, along the upper Blitzen River, at the southern portion of East Canal, and at Mud and Bridge Creeks, and vehicle access to fishing sites would expand. In addition, the Refuge would develop a new pedestrian crossing at Bridge Creek, and provide a new late-summer bank-fishing opportunity on the Blitzen River, from Sodhouse Lane to the bridge on Boat Landing Road. Orientation and information would be added to fishing areas. Triploid rainbow trout stocking would continue at Krumbo Reservoir, and a genetic study of redband trout would be conducted.

Step-down management plans for historic, archaeological, and paleontological resources would be developed in cooperation with partners. Interpretation of historic sites would be expanded. Opportunities for American Indians to collect plant materials for traditional uses would be expanded. Monitoring and inventory of archaeological resources would increase. Step-down habitat and wildlife species inventory and monitoring plans would be developed, emphasizing focal species and national monitoring efforts. Plant community responses to meadow management strategies would be monitored through a third party scientific process. A database would be created to track data collected for all monitoring plans. We would continue to emphasize partnerships to maximize adaptive management.

Our volunteer program would continue, with an emphasis on increasing recruitment, retention, and return rates. Refuge staff would pursue sustainable practices to achieve energy independence and carbon negative Refuge management.

Alternative 3

Under Alternative 3, most of the habitat management practices under Alternative 2 would occur. The primary difference is that we would place equal emphasis on aquatic health (carp control) and developing a comprehensive riverine strategy. A detailed assessment of the geomorphology, ecology, hydrology, and management function of the Blitzen River would occur for the first 7 years. This site-specific scientific information will then form the basis for any needed pilot projects and implementation of a comprehensive management strategy.

Management under Alternative 3 for wildlife viewing, photography, and welcome and orientation would be similar to Alternative 2, but there would be less emphasis on developed facilities, and more emphasis on self-guided and off-trail experiences. To promote this, a variety of access changes would occur. The 42-mile Blitzen Valley auto tour route (Center Patrol Road) would be closed to vehicle access August 15 to the fourth Friday of October in the Buena Vista Unit, and August 15 to March 1 in the P Ranch Unit, and would be redesigned into two or three shorter, year-round, auto tour routes. Walk-in free-roam access along the closed portions of the Center Patrol Road, and on the dike tops in the Buena Vista and P Ranch Units, would be allowed during the periods listed above to provide opportunities for self-guided and off-trail experiences. This would provide 11 weeks of free-roam opportunities in the Buena Vista Unit, and 27 weeks in the P Ranch Unit. Vehicle access to Krumbo Reservoir would be permitted from the fourth Friday of November to April; walk-in access would be allowed at other times of the year. The southern portion of East Canal Road to the confluence of Bridge Creek at the East Canal would remain open to year-round walk-in access. Year-round vehicle access would be allowed on Boat Landing Road near Refuge Headquarters, to the Malheur Lake elevated viewing platform. Both spur and loop trails a mile or less in length would be developed, as would a number of viewing overlooks and platforms. Existing trails would be upgraded to ADA standards.

The historic Audubon photography blind at Refuge Headquarters Display Pond would be restored under Alternative 3. In free-roam areas, temporary photography blinds would be permitted. The Refuge would maintain and replant trees and shrubs at four historic sites to provide habitat for and viewing of rare and incidental passerines.

The upland game and waterfowl hunts would be managed similar to Alternative 2, except that a Buena Vista waterfowl hunt would not be permitted, and ADA facilities would not be developed. A youth hunt would be explored for the Double-O Unit on the State-designated weekend.

Fishing opportunities and management would be the same as Alternative 2, except that vehicle access to fishing areas would be less, which could limit the number of people fishing. Volunteer programs, EE and interpretation, docent-led tours, the land exchange with BLM, cultural and paleontological management, energy independence, and inventory and monitoring would be managed the same as under Alternative 2.

Comments

We solicited comments on the Draft CCP/EIS from March 5 to May 4, 2012 (77 FR 13139, March 5, 2012). We received comments from agencies, organizations, and individuals. To address the comments, minor changes and clarifications were made to the final CCP/EIS, and documented in Appendix N.

Public Availability of Documents

In addition to the information in ADDRESSES, printed copies of the document will be available for review at the following libraries: Harney County Library at 80 West “D” Street, Burns, OR 97720; and Bend Public Library, 601 NW., Wall Street, Bend, OR 97701.

Dated: December 13, 2012.
Hugh Morrison,
Acting Regional Director, Pacific Region, Portland, Oregon.

[FR Doc. 2012-30852 Filed 12-20-12; 8:45 am]

BILLING CODE 4310-55-P